DEPARTMENT OF HEALTH AND HUMAN SERVICES

National Institutes of Health

National Institute on Deafness and Other Communication Disorders; Amended Notice of Meeting

Notice is hereby given of a change in the meeting of the National Institute on Deafness and Other Communication Disorders Special Emphasis Panel, October 01, 2013, 02:00 p.m. to October 01, 2013, 04:00 p.m., National Institutes of Health, Neuroscience Center, 6001 Executive Boulevard, Rockville, MD 20852 which was published in the Federal Register on September 16, 2013, 78 FR 56902.

This meeting will be held on October 31, 2013. The location and time remain the same. The meeting is closed to the public.

Dated: October 21, 2013.
Melanie J. Gray,
Program Analyst, Office of Federal Advisory Committee Policy.

[FR Doc. 2013-25039 Filed 10-24-13; 8:45 am]

BILLING CODE 4140-01-P